DEPARTMENT OF DEFENSE

Department of the Army; Corps of Engineers

Intent To Prepare a Draft Revised General Reevaluation Report/Second Supplemental Environmental Impact Statement (RGRR/SEIS) for the Modified Water Deliveries to Everglades National Park, Tamiami Trail Feature

AGENCY: Department of the Army, U.S. Army Corps of Engineers, DoD.

ACTION: Notice of intent.

SUMMARY: The Jacksonville District, U.S. Army Corps of Engineers intends to prepare a Draft Second Supplemental Environmental Impact Statement (DSEIS) for the Tamiami Trail feature of the Modified Water Deliveries to Everglades National Park (MWD) project in Miami-Dade County. The study is a cooperative effort between the U.S. Army Corps of Engineers, Everglades National Park (ENP), the Florida Department of Transportation, and the South Florida Water Management District.

FOR FURTHER INFORMATION CONTACT: Jon Moulding, U.S. Army Corps of Engineers, Planning Division, Environmental Branch, P.O. Box 4970, Jacksonville, FL 32232-0019, by e-mail, jon.moulding@usace.army.mil, or by telephone at 904-232-2286.

SUPPLEMENTARY INFORMATION: a. Authorization: The MWD project in South Florida was authorized by the Everglades National Park Protection and Expansion Act of 1989. Prior to the current study, a Final GRR/SEIS on the project was coordinated with the public in December 2003. The document was withdrawn without a Record of Decision because additional information on costs and benefits required a revision of plan formulation and evaluation.

b. Project Scope: The primary goal of the MWD project is to improve water deliveries to ENP from the Central and Southern Florida project. The Tamiami Trail feature involves means to convey water south under Tamiami Trail, U.S. Highway 41, into Northeast Shark River Slough of ENP. Specific Objectives include passing peak MWD flows under the highway in as natural a way as practicable without adversely affecting the roadbed and public safety.

c. Preliminary Alternatives: The previously examined alternatives will be reevaluated in light of new hydrologic modeling that indicates the need for a higher design water elevation, greater construction costs resulting from increases in market costs of material, concerns for public safety, and the need to raise the profile of any portion of the road that would not be bridged.

d. Issues: The RGRR/SEIS will consider impacts on health and safety, aesthetics and recreation, cultural resources, socio-economic resources, hydrology, water quality, ecosystem habitat, fish and wildlife resources, threatened and endangered species, and construction costs.

e. Scoping: As the nature of the issues have not changed since the previous document was issued, no additional scoping is planned.

f. Public Involvement: Public workshops may be held over the course of the study; the exact location, dates, and times will be announced in public notices and local newspapers. A Public meeting will be held after release of the Draft RGRR/SEIS; the exact location, date, and times will be announced in a public notice and local newspapers.

g. Coordination: The proposed action is in accordance with the Fish and Wildlife Coordination Act (FWCA) of 1958 and the Endangered Species Act (ESA) of 1973. The coordinating agencies include the U.S. Fish and Wildlife Service, Everglades National Park, the Florida Fish and Wildlife Conservation Commission, the Florida Department of Transportation, and the South Florida Water Management District.

h. Other Environmental Review and Consultation: The proposed action would involve evaluation for compliance with guidelines pursuant to Section 404(b) of the Clean Water Act and the National Historic Preservation Act.

i. Agency Role: As cooperating agency, Everglades National Park will provide extensive information and assistance on the resources to be impacted and alternatives.

j. DSEIS Preparation: The integrated draft RGRR, including a DSEIS, is currently estimated for publication in August 2005.

Dated: June 3, 2005.
Stuart J. Appelbaum,
Chief, Planning Division.

[FR Doc. 05-11498 Filed 6-9-05; 8:45 am]

BILLING CODE 3710-AJ-M